DEPARTMENT OF HEALTH AND HUMAN SERVICES

Administration for Children and Families

Submission for OMB Review; OPRE Data Collection for Supporting Youth To Be Successful in Life (SYSIL) (New Collection)

AGENCY: Office of Planning, Research, and Evaluation, Administration for Children and Families, HHS.

ACTION: Request for public comment.

SUMMARY: The Administration for Children and Families (ACF) is requesting approval from the Office of Management and Budget (OMB) for a new data collection. The Supporting Youth to be Successful in Life study (SYSIL) will build evidence on how to end homelessness among youth and young adults with experience in the child welfare system by continuing work with an organization who conducted foundational work as part of the Youth At-Risk of Homelessness project (OMB Control Number: 0970-0445). SYSIL will provide important information to the field by designing and conducting a federally led evaluation of a comprehensive service model for youth at risk of homelessness.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function.

SUPPLEMENTARY INFORMATION:

Description: The SYSIL evaluation includes an implementation study and an impact study, which will use a rigorous quasi-experimental design that includes a comparison group. This new information collection request includes the baseline and follow-up survey instruments for the impact study (a single instrument administered four times), and discussion guides for interviews and focus groups for the implementation study. The data collected from the baseline and follow-up surveys will be used to describe the characteristics of the study sample of youth, develop models for estimating program impacts, and determine program effectiveness by comparing outcomes between youth in the treatment (youth receiving the Pathways program) and control groups. Data from the interviews and focus groups will provide a detailed understanding of program implementation. We will also conduct brief check-ins with program directors using a subset of questions from the interview guides to collect information on services provided at two additional points in time. The study will also use administrative data from the child welfare system, homelessness management information system, and program providers. Administrative data will be used in its existing format and does not impose any new information collection or recordkeeping requirements on respondents.

Respondents: The baseline and follow-up surveys will be administered to youth in the treatment group (youth receiving the Pathways program) and youth in the control group who consent to participate in the study. Interviews will be conducted with program leadership and staff. Focus groups will be conducted with a subset of youth who are participating in the study. Check-ins will be conducted with program directors.

Annual Burden Estimates
Instrument | Number of respondents (total over request period) | Number of responses per respondent (total over request period) | Average burden per response (in hours) | Total burden (in hours) | Annual burden (in hours)
SYSIL Youth Survey—Baseline survey | 700 | 1 | .5 | 350 | 117
SYSIL Youth Survey—Follow-up survey 1 (6 months) | 630 | 1 | .5 | 315 | 105
SYSIL Youth Survey—Follow-up survey 2 (12 months) | 595 | 1 | .5 | 298 | 99
SYSIL Youth Survey—Follow-up survey 3 (24 months) | 490 | 1 | .5 | 245 | 82
Interview guide for Pathways sites (treatment sites) | 30 | 1 | 1.5 | 45 | 15
Program Director Check-ins for Pathways sites (treatment sites) | 6 | 2 | .5 | 6 | 2
Interview guide for comparison sites | 30 | 1 | 1.5 | 45 | 15
Program Director Check-ins for comparison sites | 6 | 2 | .5 | 6 | 2
Focus group discussion guide for Pathways youth (treatment youth) | 50 | 1 | 1.5 | 75 | 25
Focus group discussion guide for comparison youth | 50 | 1 | 1.5 | 75 | 25

Estimated Total Annual Burden Hours: 487.

Authority: Section 105(b)(5) of the Child Abuse Prevention and Treatment Act (CAPTA) of 1978 (42 U.S.C. 5106(b)(5)), as amended by the CAPTA Reauthorization Act of 2010 (Pub. L. 111-320).

Mary B. Jones,
ACF/OPRE Certifying Officer.

[FR Doc. 2021-07752 Filed 4-15-21; 8:45 am]

BILLING CODE 4184-29-P